DEPARTMENT OF DEFENSE

Department of the Army

[Docket ID: USA-2014-0012]

Privacy Act of 1974; System of Records

AGENCY: Department of the Army, DoD.

ACTION: Notice to alter a System of Records.

SUMMARY: The Department of the Army proposes to alter a system of records notice, A0500-3c DAMO, entitled “Emergency Relocation Group (ERG) Roster Files” in its existing inventory of records systems subject to the Privacy Act of 1974, as amended. This system will enable Army wide organizations using recall rosters to contact necessary military personnel, DoD civilians and contractors, and other individuals to respond to all hazard emergencies, including acts of nature, natural disasters, accidents, and technological and/or attack related emergencies. In addition, to contact family members or other individuals listed as an emergency contact in the event of injury or casualty.

DATES: Comments will be accepted on or before June 2, 2014. This proposed action will be effective the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, Department of the Army, Privacy Office, U.S. Army Records Management and Declassification Agency, 7701 Telegraph Road, Casey Building, Suite 144, Alexandria, VA 22325-3905 or by calling (703) 428-6185.

SUPPLEMENTARY INFORMATION: The Department of the Army's notices for systems of records subject to the Privacy Act of 1974 (5 U.S.C. 552a), as amended, have been published in the Federal Register and are available from the address in FOR FURTHER INFORMATION CONTACT or from the Defense Privacy and Civil Liberties Office Web site at http://dpclo.defense.gov/. The proposed systems reports, as required by 5 U.S.C. 552a(r) of the Privacy Act, as amended were submitted on April 11, 2014, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: April 28, 2014.
Aaron Siegel,
Alternate OSD Federal Register Liaison Officer, Department of Defense.

A0500-3c DAMO

System name:

Emergency Relocation Group (ERG) Roster Files (March 21, 2013, 78 FR 17388).

Changes:

System ID:

Delete entry and replace with “A0500-3c G3/5/7 (DAMO)”

System name:

Delete entry and replace with “Department of the Army Emergency Personnel Location Records System and Files.”

System locations:

Delete entry and replace with “For Headquarters Department of the Army:

Headquarters, Department of the Army, Army Continuity of Operations Program Office, Washington, DC 20310-0400.

For decentralized locations at Headquarters, Department of the Army, Army field operating agencies, major commands, installations, and activities. Official mailing addresses are published as an appendix to the Army's compilation of systems of records notices.”

Categories of individuals covered by the system:

Delete entry and replace with “This system of records contains information concerning Army active duty military personnel, the Army National Guard, U.S. Army Reserve, Army civilian employees and contractors who may be required to respond to all hazards emergencies including acts of nature, natural disasters, accidents, and technological and or/attack related emergencies.”

Categories of records in the system:

Delete entry and replace with “Individual's name, DoD ID Number, work address, home address, email addresses, office phone number, cell phone number, emergency contact's name, relationship to individual, work address, home address, office phone number, cell phone number, email addresses, any other phone numbers that may be needed in the event of a major emergency.”

Authority for maintenance of the system:

Delete entry and replace with “10 U.S.C. 3013, Secretary of the Army; 44 U.S.C. 3101, the Federal Records Act; E.O. 12656, Assignment of Emergency Preparedness Responsibilities; DoD Directive 3020.26, Continuity of Operations Policy and Planning; Army Regulation 500-3, Army Continuity of Operations.”

Purpose(s):

Delete entry and replace with “To enable Army wide organizations using recall rosters to contact necessary military personnel, DoD civilians and contractors, and other individuals to respond to all hazard emergencies, including acts of nature, natural disasters, accidents, and technological and/or attack related emergencies. In addition, to contact family members or other individuals listed as an emergency contact in the event of injury or casualty.”

* * * * *

Storage:

Delete entry and replace with “Paper records and electronic storage media.”

Retrievability:

Delete entry and replace with “These records are retrieved by a combination of the individual's name and DoD ID number.”

Safeguards:

Delete entry and replace with “DoD Components and approved users ensure that electronic records collected and used are maintained in controlled areas accessible only to authorized personnel. Physical security differs from site to site, but the automated records must be maintained in controlled areas accessible only by authorized personnel. Access to computerized data is restricted by use of common access cards (CACs) and is accessible only by users with an authorized account. The system and electronic backups are maintained in controlled facilities that employ physical restrictions and safeguards such as security guards, identification badges, key cards and locks.”

Retention and disposal:

Delete entry and replace with “Keep in Current File Area (CFA) until recalls are updated and then until no longer needed for conducting business, but not longer than 6 years after the event, then destroy. Records are destroyed by erasing or shredding paper files.”

System manager(s) and address:

Delete entry and replace with “Deputy Division Chief, Headquarters, Department of the Army, Army Continuity of Operations Program Office, 400 Army Pentagon, Washington, DC 20310-0400.

For decentralized locations at Headquarters, Department of the Army, Army field operating agencies, major commands, installations and activities, official mailing addresses are published as an appendix to the Army's compilation of systems of records notices.”

Notification procedure:

Delete entry and replace with “Individuals seeking to determine if information about themselves is contained in this system should address written inquiries to the commander of the organization to which the service member is assigned.

For decentralized locations at Headquarters, Department of the Army, Army field operating agencies, major commands, installations, and activities, official mailing addresses are published as an appendix to the Army's compilation of systems of records notices.

For verification purposes, all individuals should furnish full name, DoD ID number, current address and telephone number, signature and specific information concerning the event or incident that will assist in locating the record. Individuals must furnish proof of identity.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths:

`I declare (or certify, verify, or state) under penalty of perjury that the foregoing is true and correct. Executed on (date). (Signature)'.”

Record access procedures:

Delete entry and replace with “Individuals seeking access to records about themselves in this system should address written inquiries to the commander of the organization to which the service member is assigned.

Requests should contain the individuals' full name, DoD ID number, current address, telephone number and signature.

For decentralized locations at Army field operating agencies, major commands, installations, and activities. Official mailing addresses are published as an appendix to the Army's compilation of systems of records notices.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths:

`I declare (or certify, verify, or state) under penalty of perjury that the foregoing is true and correct. Executed on (date). (Signature)'.”

* * * * *

Record source categories:

Delete entry and replace with “Information originates within the Department of the Army, its Commands, along with personnel who submit information such as emergency contacts.”

* * * * *

[FR Doc. 2014-09960 Filed 4-30-14; 8:45 am]

BILLING CODE 5001-06-P